DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: All comments on the petitions must be received by the Office of Standards, Regulations, and Variances on or before October 20, 2008.

ADDRESSES: You may submit your comments, identified by “docket number” on the subject line, by any of the following methods:

1. Electronic Mail: Standards-Petitions@dol.gov.

2. Facsimile: 1-202-693-9441.

3. Regular Mail: MSHA, Office of Standards, Regulations, and Variances, 1100 Wilson Boulevard, Room 2350, Arlington, Virginia 22209, Attention: Patricia W. Silvey, Director, Office of Standards, Regulations, and Variances.

4. Hand-Delivery or Courier: MSHA, Office of Standards, Regulations, and Variances, 1100 Wilson Boulevard, Room 2350, Arlington, Virginia 22209, Attention: Patricia W. Silvey, Director, Office of Standards, Regulations, and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations, and Variances at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists, which will at all times guarantee no less than the same measure of protection afforded the miners of such mine by such standard; or (2) that the application of such standard to such mine will result in a diminution of safety to the miners in such mine. In addition, the regulations at 30 CFR 44.10 and 44.11 establish the requirements and procedures for filing petitions for modifications.

II. Petitions for Modification

Docket Number: M-2008-039-C through M-2008-043-C.

Petitioner: AMFIRE Mining Company, LLC, One Energy Place, Latrobe, PA 15650.

Mine: Dora 8 Mine, MSHA I.D. No. 36-08704, located in Jefferson County, Pennsylvania; Ondo Extension Mine, MSHA I.D. No. 36-09005, Nolo Mine, MSHA I.D. No. 36-08850, Gillhouser Run Mine, MSHA I.D. No. 36-09033, all located in Indiana County, Pennsylvania; and Madison Mine, MSHA I.D. No. 36-09127, located in Cambria County, Pennsylvania.

Regulation Affected: 30 CFR 75.1101-1(b) (Deluge-type water spray systems).

Modification Request: The petitioner requests a modification of the existing standard to permit the use of deluge-type water spray systems installed at belt conveyor drives in lieu of using blow-off dust covers. The petitioner proposes to have a person who is trained in the testing procedure specific to the deluge-type water spray fire suppression systems conduct examinations on a weekly basis as follows: (1) Conduct a visual examination of each deluge-type water spray fire suppression system; (2) conduct a functional test of each deluge-type water spray system fire suppression system and observe its performance weekly instead of annually; and (3) record the results of the examination and functional test in a book maintained on the surface, which would be retained and made available to the authorized representative of the Secretary. The petitioner states that: (1) Any malfunction or clogged nozzle detected as a result of the weekly examination or functional test will be corrected immediately; (2) the proposed alternative will provide a greater measure of protection because the weekly functional tests will ensure that the system functions properly and that all deluge-type nozzles respond as designed with adequate pressure and flow rates; and (3) the methods and conditions in this petition will be included in the initial and annual refresher training as required in its approved Part 48 training plans to ensure that the miners are aware of the stipulations contained in the petition. The petitioner asserts that the proposed alternative method at all times guarantees no less than the same measure of protection afforded by the standard.

Docket Number: M-2008-002-M.

Petitioner: East Tennessee Zinc Company, LLC, P.O. Box 160, 2421 W. Old Andrew Johnson Highway, Strawberry Plains, TN 37871.

Mine: Coy Mine, MSHA I.D. No. 40-00166 and Young Mine, MSHA I.D. No. 40-00168, both located in Jefferson County, Tennessee; and Immel Mine, MSHA I.D. No. 40-00170, located in Knox County, Tennessee.

Regulation Affected: 30 CFR 57.11052(d) (Refuge areas).

Modification Request: The petitioner requests a modification of the existing standard related to compressed air lines, water lines, suitable hand tools, and stopping materials to permit an alternative method of compliance to use self-supporting refuge chambers. The petitioner states that: (1) The refuge chambers presently used (Strata Safety Mine Refuge Chamber) contain an internal air supply with a carbon dioxide scrubber; (2) in the event of main power failure, the unit has a built in battery back-up, which will operate for a minimum of 48 hours; (3) the chambers have enough food, water and bathroom facilities for the designated occupancy; and (4) the chambers meet the intent of the proposed rules for refuge alternatives for underground coal mines even though they are being utilized in an underground metal mine. The petitioner further states that: (1) The chambers are used in a non-combustible environment so the control systems are electrical; (2) by allowing the use of refuge chambers that do not require air and water lines to be connected, there will be greater flexibility in usage location; (3) flexibility will allow the refuge chambers to be relocated quickly to working areas as the work face advances; and (4) by having air and water inside the chamber, there is minimal opportunity for damage to these services from normal mining operations (i.e. scaling, blasting, etc.) thus making them a safety improvement. The petitioner asserts that the alternative method would provide the same degree of safety as the existing standard.

Patricia W. Silvey,
Director, Office of Standards, Regulations, and Variances.

[FR Doc. E8-21897 Filed 9-18-08; 8:45 am]

BILLING CODE 4510-43-P